DEPARTMENT OF LABOR

Office of the Secretary

Submission for OMB Review: Comment Request

January 6, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Construction Recordkeeping and Reporting.

OMB Number: 1215-0166.

Frequency: On occasion.

Type of Response: Reporting.

Affected Public: Individuals or households; Business or other for-profit; and Not-for-profit institutions.

Number of Respondents: 2,200.

Annual Reponses: 2,200.

Average Response Time: 20 minutes.

Total Annual Burden Hours: 733.

Total Annualized capital/startup costs: $0.

Total Annual Costs (operating/maintaining systems or purchasing services): $924.00.

Description: The Federal Mine Safety and Health Act of 1977, as amended, 30 U.S.C. 901, provides for the payment of benefits to a coal miner who is totally disabled due to pneumoconiosis and to certain survivors of the miner. If a beneficiary is incapable of handling their affairs, the person or institution responsible for their care is required to apply to receive the benefit payments on the beneficiary's behalf. The CM-910 is the form completed by the representative payee applicants. The payee applicant completes the form and mails it for evaluation to the district office that has jurisdiction over the beneficiary's claim file. Regulations 20 CFR 725.504-513 require the collection of this information.

Dated: January 10, 2005.
Ira L. Mills,
Departmental Clearance Officer.

[FR Doc. 06-351 Filed 1-12-06; 8:45 am]

BILLING CODE 4510-CK-P